ENVIRONMENTAL PROTECTION AGENCY

National Advisory Council for Environmental Policy and Technology

AGENCY: Environmental Protection Agency (EPA).

ACTION: Notice of meeting.

SUMMARY: Under the Federal Advisory Committee Act, Public Law 92463, EPA gives notice of a meeting of the National Advisory Council for Environmental Policy and Technology (NACEPT). NACEPT provides advice to the EPA Administrator on a broad range of environmental policy, technology, and management issues. NACEPT is a committee of individuals who represent diverse interests from academia, industry, non-governmental organizations, and local, state, and tribal governments. The purpose of this meeting is to discuss the Council's FY 20l0-FY 2012 agenda, which includes vulnerable populations and workforce issues. A copy of the agenda for the meeting will be posted at http://www.epa.gov//ocem/nacept/cal-nacept.htm.

DATES: NACEPT will hold a two-day meeting on Tuesday, May 25, 2010, from 8:30 a.m. to 6 p.m. and Wednesday, May 26, 2010, from 8:30 a.m. to 2 p.m.

ADDRESSES: The meeting will be held at the Sheraton Crystal City Hotel, 1800 Jefferson Davis Highway, Arlington, VA 22202. The meeting is open to the public, with limited seating on a first-come, first-served basis.

FOR FURTHER INFORMATION CONTACT: Sonia Altieri, designated Federal officer, altieri.sonia@epa.gov, (202) 564-0243, U.S. EPA, Office of Cooperative Environmental Management (1601M), 1200 Pennsylvania Avenue, NW., Washington, DC 20460.

SUPPLEMENTARY INFORMATION: Requests to make oral comments or to provide written comments to the Council should be sent to Sonia Altieri, designated Federal officer, at the contact information above. All requests must be submitted no later than May 17, 2010.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: April 29, 2010.
Sonia Altieri,
Designated Federal Officer.

[FR Doc. 2010-10538 Filed 5-6-10; 8:45 am]

BILLING CODE 6560-50-M